DEPARTMENT OF DEFENSE

Department of the Navy

Notice of Intent To Grant Partially Exclusive Patent License; Nabco, Inc.

AGENCY: Department of the Navy, DoD.

ACTION: Notice.

SUMMARY: The Department of the Navy hereby gives notice of its intent to grant to Nabco, Inc., a revocable, non-assignable, partially exclusive license in the U.S. to practice these Government-owned inventions in the field of use of fabricated metal product manufacturing, machinery manufacturing, transportation equipment manufacturing, as described in: U.S. Patent No. 6,196,107, entitled “Explosive Containment Device,” issued March 6, 2001, Navy Case No. 78,946.

DATES: Anyone wishing to object to the grant of this license has fifteen (15) days from the date of this notice to file written objections along with supporting evidence, if any.

ADDRESSES: Written objections are to be filed with Carderock Division, Naval Surface Warfare Center, Code 004, 9500 MacArthur Boulevard, West Bethesda, MD 20817-5700.

FOR FURTHER INFORMATION CONTACT: Dr. Joseph Teter Ph.D., Director, Technology Transfer Office, Carderock Division, Naval Surface Warfare Center, Code 0022, 9500 MacArthur Boulevard, West Bethesda, MD 20817-5700, telephone 301-227-4299.

(Authority: 35 U.S.C. 207, 37 CFR part 404.)

Dated: February 3, 2006.
Eric McDonald,
Lieutenant Commander, Judge Advocate General's Corps, U.S. Navy, Federal Register Liaison Officer.

[FR Doc. E6-2119 Filed 2-14-06; 8:45 am]

BILLING CODE 3810-FF-P